DEPARTMENT OF COMMERCE

Patent and Trademark Office

37 CFR Subparts 1, 2, 10 and 11

[Docket No.: 2002-C-005]

RIN 0651-AB55

Changes to Representation of Others Before The United States Patent and Trademark Office

AGENCY: United States Patent and Trademark Office, Commerce.

ACTION: Notice of extension of comment period.

SUMMARY: The United States Patent and Trademark Office (Office or USPTO) is extending the public comment period on proposed rules 1.4(d)(2), 1.8(a)(2)(iii)(A), 1.21(a)(6) through (a)(9), 1.21(a)(11), 1.21(a)(12), 2.11, 2.17, 2.24, 2.33, 2.61, 11.2(b)(4) through 11.2(b)(7), 11.3(b) and (c), 11.5(b), 11.8(d), 11.9(c) (last two sentences), 11.9(d), 11.10(c) (second sentence), 11.10(d) (second sentence), 11.10(e) (second sentence), 11.11(b) through (f), 11.12 through 11.62, and 11.100 through 11.900, as well as the definitions in proposed rule 11.1 of terms that are used only in rules in Subparts B, C and D, USPTO Rules of Professional Conduct, published in the Federal Register on December 12, 2003 (68 FR 69442). This extension applies to all portions of Subparts C and D of the proposed rules, and those portions of Subparts A and B not relating to enrollment of new patent practitioners. This extension will allow additional time following publication on December 12, 2003, for public comment regarding the Office's proposals for annual fees, mandatory continuing education, and processes for handling investigations and disciplinary proceedings.

DATES: You must submit your comments by Friday, June 11, 2004. The Office may not necessarily consider or include in the Administrative Record for the proposed rule comments that the Office receives after the close of this extended comment period or comments delivered to an address other than those listed below.

ADDRESSES: Comments should be sent by electronic mail over the Internet addressed to: ethicsrules.comments@uspto.gov. Comments may also be submitted by mail addressed to: Mail Stop OED-Ethics Rules, United States Patent and Trademark Office, PO Box 1450, Alexandria, Virginia 22313-1450 or by facsimile to (703) 306-4134, marked to the attention of Harry I. Moatz. Although comments may be submitted by mail or facsimile, the Office prefers to receive comments via the Internet. If comments are submitted by mail, the Office would prefer that the comments be submitted on a DOS formatted 3½-inch disk accompanied by a paper copy. The comments will be available for public inspection at the Office of Enrollment and Discipline, located in Room 1103, Crystal Plaza 6, 2221 South Clark Street, Arlington, Virginia, and will be available through anonymous file transfer protocol (ftp) via the Internet (address: http://www.uspto.gov). Since comments will be made available for public inspection, information that is not desired to be made public should not be included in the comments.

FOR FURTHER INFORMATION CONTACT: Harry I. Moatz ((703) 305-9145), Director of Enrollment and Discipline (OED Director), directly by phone, or by facsimile to (703) 305-4136, marked to the attention of Mr. Moatz, or by mail addressed to: Mail Stop OED-Ethics Rules, U.S. Patent and Trademark Office, P.O. Box 1450, Alexandria, Virginia 22313-1450.

SUPPLEMENTARY INFORMATION: The USPTO published the proposed rules on December 12, 2003 (68 FR 69442) and provided a 60-day comment period that ended on February 10, 2004. An earlier notice extended the time period to comment on the proposed rules with respect to Subpart D by sixty days to April 12, 2004. 69 FR 4269 (Jan. 29, 2004). A number of parties have suggested that time be extended to submit comments. More than two weeks have now passed since the original period for comments. Responding to suggestions by some parties who have submitted comments, we are expanding the scope of that extension of time to encompass not only Subpart D, but also proposed rules 1.4(d)(2), 1.8(a)(2)(iii)(A), 1.21(a)(6) through (a)(9), 1.21(a)(11), 1.21(a)(12), 2.11, 2.17, 2.24, 2.33, 2.61, 11.2(b)(4) through 11.2(b)(7), 11.3(b) and (c), 11.5(b), 11.8(d), 11.9(c) (last two sentences), 11.9(d), 11.10(c) (second sentence), 11.10(d) (second sentence), 11.10(e) (second sentence), 11.11(b) through (f), 11.12 through 11.62, and 11.100 through 11.900, as well as certain definitions in proposed rule 11.1 of terms that are used only in rules in Subparts B, C and D. Inasmuch as a response to the requested extension of time has been delayed, an additional 120 days will be given to file comments. Comments will be received by the Office on the specified proposals until June 11, 2004, to allow the public additional time to provide us with comments. The extension provides a total of nearly six months to submit comments on the specified proposed rules.

The proposed rules are a comprehensive effort by the Office to address an annual fee, mandatory continuing education, and “improve the Office's processes for handling applications for registration, petitions, investigations, and disciplinary proceedings * * *” 68 Fed. Reg. at 69442. The Office requested comments on the proposed rules and processes. In response, the Office received a reply by one set of stakeholders that the time be extended to reply to the proposed rules in Subpart D. The Office has now also received requests from individuals, law firms, professional organizations, and others requesting an extension of time to consider and respond to the proposed rules. The requests indicate that they regard proposals in Subparts A, B and C to be sufficiently related to the Rules of Professional Conduct found in Subpart D such that additional time is needed to properly and adequately address the proposal.

In response to those requests, we are extending the time for response until June 11, 2004, with the exception of those rules necessary for administration of the registration examination for patent practitioners, including those definitions that are used in those rules. Rules specific to the enrollment process are severable from the remaining proposals. The Office has received extensive comments on them and has decided to proceed to final rule making based upon those comments in order not to delay the enrollment of individuals as newly qualified registered patent practitioners. No parties should be prejudiced by the additional time accorded for comment on the remaining proposed rules.

The extended comment period provides the public an opportunity to address proposed rules 1.4(d)(2), 1.8(a)(2)(iii)(A), 1.21(a)(6) through (a)(9), 1.21(a)(11), 1.21(a)(12), 2.11, 2.17, 2.24, 2.33, 2.61, 11.2(b)(4) through 11.2(b)(7), 11.3(b) and (c), 11.5(b), 11.8(d), 11.9(c) (last two sentences), 11.9(d), 11.10(c) (second sentence), 11.10(d) (second sentence), 11.10(e) (second sentence), 11.11(b) through (f), 11.12 through 11.62, and 11.100 through 11.900, as well as the definition of terms in proposed rule 11.1 that are used only in rules in Subparts B, C and D. Time is not being extended to comment upon the provisions in proposed rules 1.1, 1.21(a)(1) through (a)(5), 1.21(a)(10), 1.31, 1.33(c), 1.455(a), 11.2(a) through 11.2(b)(3), 11.2(c) through 11.2(e), 11.3(a) and (d), 11.4 through 11.5(a), 11.6 through 11.8(c), 11.9(a) through 11.9(c) (first sentence), 11.10(a) through 11.10(c) (first sentence), 11.10(d) (first sentence), 11.10(e) (first and third sentences), and 11.11(a), as well as the definitions in proposed rule 11.1 of terms used in those rules.

Dated: February 26, 2004.
Jon W. Dudas,
Acting Under Secretary of Commerce for Intellectual Property and Acting Director of the United States Patent and Trademark Office.

[FR Doc. 04-4652 Filed 3-2-04; 8:45 am]

BILLING CODE 3510-16-P